DEPARTMENT OF ENERGY

Federal Energy Regulatory Commission

[Docket No. PL04-13-000]

Reliability Readiness Reviews; Notice of Technical Conference

August 27, 2004.

Take notice that the Federal Energy Regulatory Commission will host a technical conference on Wednesday, September 29, 2004 to discuss Reliability Readiness Reviews that are being conducted by the North American Electric Reliability Council (NERC). The workshop will be held at the Commission's Washington, DC headquarters, 888 First St., NE, 20426. The workshop is scheduled to begin at 9 a.m. and end at approximately 12:30 p.m. (EST) in the Commission Meeting Room, Room 2-C. The Commissioners may attend and participate.

The goal of the technical conference is to offer a public progress report on the Reliability Readiness Reviews conducted by NERC, in which FERC staff participated, since the August 14, 2003 blackout. Audit reports are available on the NERC Web site. The conference will report on what these reviews reveal about the overall “readiness” of the nation's reliability coordinators and control areas, and the strengths and weaknesses of the review process as implemented to date. A draft agenda is included as Attachment A to this Notice. The final agenda will be made available at a later time.

The conference is open for the public to attend, and preregistration is not required. There will be no on-line registration established for this event; on-site attendees may simply attend on the day of the event.

Transcripts of the conference will be available for a fee from Ace Reporting Company (202-347-3700 or 1-800-336-6646) the next business day. They will be available for the public on the Commission's eLibrary system seven calendar days after FERC receives the transcript. Additionally, Capitol Connection offers the opportunity for remote listening and viewing of the conference. It is available for a fee, live over the Internet, by phone or via satellite. Persons interested in receiving the broadcast, or who need information on making arrangements should contact David Reininger or Julia Morelli at the Capitol Connection (703-993-3100) as soon as possible or visit the Capitol Connection Web site at http://www.capitolconnection.gmu.edu and click on “FERC.”

For more information about the conference, please contact Donald Lekang at 202-502-8127, donald.lekang@ferc.gov or Sarah McKinley at 202-502-8004, sarah.mckinley@ferc.gov.

Magalie R. Salas,
Secretary.

Attachment A

Reliability Readiness Reviews, September 29, 2004, Agenda

9 a.m.—Introductions

9:15 a.m.—Reliability Assessment

• Audit Results

• Actual Grid Performance

10 a.m.—Reliability/Capability Trends and Patterns

• Tools

• Strengths and weaknesses

• Identifying and Institutionalizing Best Practices

11 a.m.—The Audit Process

• What Worked

• What Didn't Work

• What's Changing

12 p.m.—Stakeholder and Audience Participation

12:30 p.m.—Adjourn

[FR Doc. E4-2055 Filed 9-2-04; 8:45 am]

BILLING CODE 6717-01-P